DEPARTMENT OF ENERGY

Federal Energy Regulatory Commission

[Docket No. RM01-5-000]

Electronic Tariff Filings; Notice of Effectiveness of Regulations

October 28, 2008.

In Order No. 714, the Commission revised its filing regulations to, among other things, accommodate electronic filing of tariffs and tariff related materials. While Order No. 714 becomes effective November 3, 2008, the Commission delayed required implementation of the electronic filing requirements until at least April 1, 2010 to provide sufficient time for filers to develop tariff filing software based on the standards adopted in Order No. 714. Tariff filings, therefore, must continue to be made on paper using pre-existing procedures and designation requirements until the Commission has a further opportunity to examine its filing systems and processes in light of the eTariff requirements.

However, many of the changes to the Commission's regulations are not dependent on the electronic filing of tariffs and tariff related materials. In order to permit gas and oil pipelines and electric utilities to take advantage of those revisions not directly related to electronic filing, these revisions will become effective on November 3, 2008.

To assist in identifying the tariff revisions that become effective on November 3, 2008, the following describes the status of specific provisions that would appear to be of the most concern to filers and the public.

A. Electronic Service (§§ 35.2(e), 154.2, 154.208, 341.2)

The regulations permitting electronic service for initial rate filings will take effect November 3, 2008.

B. Joint Tariff Filings

Order No. 714 (P 61-63) permits public utilities filing the identical tariff filings on behalf of two or more companies to designate a single company to file revisions to the tariff, along with the required certificate of concurrence. As of November 3, 2008, public utilities can make joint filings in this manner by designating the filer and making a paper filing including only a single copy of the tariff using the designated filer's tariff designation requirements. The first time filings are made using this procedure, the filings must include a single tariff page for each of the non-designated companies providing the name of the tariff and the utility designated to file the tariff on behalf of the other companies.

C. Revisions Related to Tariff Withdrawals and Amendments (§ 35.17 and 154.205)

These provisions will take effect on November 3, 2008.

D. Miscellaneous Provisions

1. Notices of Cancellation (§ 35.15)

Part 131's “Notice of Cancellation” is eliminated as of November 3, 2008. Instead of filing a notice, revised Section 35.15(a) requires that a tariff filing be made to cancel a rate schedule, tariff or service agreement. Until the implementation of electronic filing, the tariff filing must follow the paper filing requirements using pre-existing procedures and designation requirements.

2. Notices of Succession (§ 35.16 and 154.603)

“Notices of Succession” are eliminated as of November 3, 2008. Instead of filing a notice, revised sections 35.16 and 154.603 provide the new tariff must be refiled within 30 days of the date of succession. Until the implementation of electronic filing, the tariff filing must follow the paper filing requirements using pre-existing procedures and designation requirements.

3. Section 311 Pipeline's Statement of Conditions (§ 284.123)

An NGPA section 311 pipeline's statement of conditions must include a rate summary, as of November 3, 2008.

4. Oil Pipeline Tariff Symbols (§ 341.2(b)(10)(i))

The revised list of tariff identification symbols must be used as of November 3, 2008.

E. Additional Information

For questions relating to other provisions, please use the Commission's Virtual Help Desk (http://www.ferc.gov/contact-us/compliance-help-desk.asp) or call Andre Goodson, Office of the General Counsel, (202) 502-8560 or H. Keith Pierce, Office of Energy Market Regulation, (202) 502-8525.

Kimberly D. Bose,
Secretary.

[FR Doc. E8-26188 Filed 11-3-08; 8:45 am]

BILLING CODE 6717-01-P